DEPARTMENT OF THE INTERIOR

Bureau of Land Management

[(ES-032-1430-BJ) ES-51274, Group 550, Minnesota]

Notice of Filing of Plat of an Island; Minnesota

1. The plat of the survey of an island in Little Kandiyohi Lake, Township 118 North, Range 34 West, Fifth Principal Meridian, Minnesota, accepted on November 29, 2001, will be officially filed in Eastern States, Springfield, Virginia at 7:30 a.m., on February 7, 2002. The tract shown below describes the island omitted from the original survey.

Fifth Principal Meridian, Minnesota,

T. 118 N. R. 34 W.,

Tract No. 37.

2. Tract No. 37 is firm land rising 20 ft. above the ordinary high water mark. The soil has evolved from glacial till parent material and is similar to the soil found on the adjacent uplands. Numerous stones were located along the entire shore line at the ordinary high water mark and at the highest points of the island. Tree species consist of ash, basswood, boxelder, elm, hickory and oak, ranging in size from 3 to 18 inches in diameter, with a maximum age of 120+ years. The ground cover consists of hazel, willow, cattails and native grasses along the entire shore line.

3. The present water level of the lake compares favorably with that of the lake at the time of the original survey; therefore, the elevation and upland character of the island along with the depth and width of the lake between the adjacent upland and the island are considered evidence that the island did exist in 1858, the year Minnesota was admitted to the Union. The original survey in 1857 did not note the presence of this island.

4. Tract No. 37 is more than 50 percent upland in character within the interpretation of the Swamp and Overflow Act of September 28, 1850 (9 Stat. 519) as extended to the State of Minnesota under the Act of March 12, 1860 (12 Stat. 3).

5. The survey was requested by Bureau of Land Management, Milwaukee Field Office, under the authority of section 211 of FLPMA (43 U.S.C. 1721) and the Minnesota Public Lands Improvement Act of 1990, P.L. 101-442 (104 Stat. 1020).

6. Except for valid existing rights, this island will not be subject to application, petition, location or selection under any public law until February 7, 2002.

7. Interested parties protesting the determination that this island is public land of the United States, must present valid proof showing that the island did not exist at the time of statehood or that it was attached to the mainland at the time of the original survey. Such protests must be submitted in writing to the Chief Cadastral Surveyor, Eastern States, Bureau of Land Management, 7450 Boston Boulevard, Springfield, Virginia 22153, prior to 7:30 a.m., February 7, 2002.

Copies of the plat will be made available upon request and prepayment of the appropriate fee.

Dated: November 29, 2001.
Corwyn J. Rodine,
Chief Cadastral Surveyor.

[FR Doc. 01-31750 Filed 12-26-01; 8:45 am]

BILLING CODE 4310-GJ-P